ENVIRONMENTAL PROTECTION AGENCY

[NH-044-7171, FRL-6542-1]

Adequacy Status of the Nashua, New Hampshire and Manchester, New Hampshire Submitted Carbon Monoxide Redesignation Requests for Transportation Conformity Purposes

AGENCY: Environmental Protection Agency (EPA).

ACTION: Notice of adequacy.

SUMMARY: In this notice, EPA is notifying the public that we have found the motor vehicle emissions budgets for the New Hampshire cities of Nashua and Manchester, received on February 8, 1999 as part of the carbon monoxide redesignation requests for each of those areas, adequate for conformity purposes. On March 2, 1999, the D.C. Circuit Court ruled that submitted SIPs cannot be used for conformity determinations until EPA has affirmatively found them adequate. As a result of our finding, the New Hampshire Department of Transportation and the Federal Highway Administration are required to use the motor vehicle emissions budgets from the submitted carbon monoxide redesignation requests in future conformity determinations.

DATES: These budgets are effective March 15, 2000.

FOR FURTHER INFORMATION CONTACT: The finding and the response to comments will be available at EPA's conformity website: http://www.epa.gov/oms/traq, (once there, click on the “Conformity” button, then look for “Adequacy Review of SIP Submissions for Conformity”). You may also contact Jeff Butensky, Environmental Planner, One Congress Street, Suite 1100 (CAQ), Boston, MA 02114-2023; (617) 918-1665; butensky.jeff@epa.gov.

SUPPLEMENTARY INFORMATION: Today's notice is simply an announcement of a finding that we have already made. EPA New England sent a letter to the New Hampshire Department of Environmental Services on November 2, 1999 stating that the motor vehicle emissions budgets contained in the submitted carbon monoxide redesignation requests for Nashua and Manchester for the year 2010 were adequate for conformity purposes. This finding will also be announced on EPA's conformity website: http://www.epa.gov/oms/traq, (once there, click on the “Conformity” button, then look for “Adequacy Review of SIP Submissions for Conformity”).

Transportation conformity is required by section 176(c) of the Clean Air Act. EPA's conformity rule requires that transportation plans, programs, and projects conform to state air quality implementation plans (SIPs) and establishes the criteria and procedures for determining whether or not they conform. Conformity to a SIP means that transportation activities will not produce new air quality violations, worsen existing violations, or delay timely attainment of the national ambient air quality standards.

The criteria by which we determine whether a SIP's motor vehicle emission budgets are adequate for conformity purposes are outlined in 40 CFR 93.118(e)(4). Please note that an adequacy review is separate from EPA's completeness review, and it also should not be used to prejudge EPA's ultimate approval of the SIP. Even if we find a budget adequate, the SIP could later be disapproved.

We've described our process for determining the adequacy of submitted SIP budgets in guidance (May 14, 1999 memo titled “Conformity Guidance on Implementation of March 2, 1999 Conformity Court Decision”). We followed this guidance in making our adequacy determination.

Authority: 42 U.S.C. 7401-7671q.

Dated: February 14, 2000.
Mindy S. Lubber,
Acting Regional Administrator, EPA New England.

[FR Doc. 00-4784 Filed 2-28-00; 8:45 am]

BILLING CODE 6560-50-P